DEPARTMENT OF AGRICULTURE

Forest Service

Ketchikan-Misty Fiords Ranger District; Tongass National Forest; Alaska; Saddle Lakes Timber Sale Environmental Impact Statement

AGENCY: Forest Service, USDA.

ACTION: Notice of Intent to Prepare an Environmental Impact Statement.

SUMMARY: The Forest Service, U.S. Department of Agriculture will prepare an Environmental Impact Statement (EIS) on a proposal to construct roads and harvest timber in the Saddle Lakes area of Revillagigedo Island, Ketchikan-Misty Fiords Ranger District, Tongass National Forest. The proposed action would harvest almost 33 million board feet (MMBF) of timber on about 2,613 acres and would construct up to 19 miles of road.

DATES: Comments concerning this project should be received by June 7, 2012. Additional opportunity for formal comments will be accepted after release of the Draft Environmental Impact Statement, which is expected to be published in January 2013.

ADDRESSES: Send or hand-deliver written comments to the Ketchikan-Misty Fiords Ranger District, Attn: Saddle Lakes Timber Sale, 3031 Tongass Avenue, Ketchikan, Alaska 99901; telephone (907) 225-2148. The FAX number is (907) 225-8738. Comments may be sent via email to: comments-alaska-tongass-ketchikan-mistyfiord@fs.fed.us with Saddle Lakes on the subject line. In all correspondence, please include your name, address, and organization name if you are commenting as a representative of an organization.

FOR FURTHER INFORMATION CONTACT: Jeff DeFreest, District Ranger, Ketchikan-Misty Fiords Ranger District, 3031 Tongass Avenue, Ketchikan, Alaska 99901, telephone (907) 228-4100; or Rob Reeck, Planning Staff Officer, telephone (907) 228-4114, or Linda Pulliam, Interdisciplinary Team Leader, telephone (907) 228-4124, also at the Ketchikan-Misty Fiords Ranger District, 3031 Tongass Avenue, Ketchikan, Alaska 99901.

Individuals who use telecommunication devices for the deaf (TDD) may call the Federal Information Relay Service (FIRS) at 1-800-877-8339 between 8 a.m. and 8 p.m., Eastern Time, Monday through Friday.

SUPPLEMENTARY INFORMATION: This EIS will tier to the 2008 Tongass Land and Resource Management Plan Final EIS. The project area is administered by the Ketchikan-Misty Fiords Ranger District of the Tongass National Forest, Ketchikan, Alaska and occurs in Value Comparison Units (VCUs) 746, 747, and 753 between George and Carroll Inlets.

The project area is located about 14 miles northeast of Ketchikan, Alaska, on Revillagigedo Island. Portions of the North Revilla (526) and Carroll (535) Inventoried Roadless Areas lie within the project area. Land Use Designations (LUDs) for the 38,460 acre project area include Timber Production (15,328 acres), Modified Landscape (16,062 acres), Old-Growth Habitat (3,566 acres), and Non-National Forest Land (3,505 acres).

Purpose and Need for Action

The purpose of the Saddle Lakes Project is to respond to the goals and objectives identified by the Forest Plan to guide timber management to support the local and regional economies of Southeast Alaska, while moving the project area towards the desired conditions of the Forest Plan, and to facilitate the transition to a sustainable wood product industry based on young-growth managment.

The underlying need for the Saddle Lakes Project comes from the Forest Service's obligation, subject to appropriations, applicable law, and to the extent consistent with providing for the multiple use and sustained yield of all renewable forest resources, to seek to provide a supply of timber from the Tongass that meets market demand annually and for the planning cycle.

This project is essential to provide an orderly flow of timber to large and small timber purchasers, mill operators, and value-added wood product industries in Southeast Alaska who contribute to the local and regional economies. The project will help provide a reliable supply of timber that will support local jobs and facilitate a sustainable wood product industry.

Proposed Action

The proposed action would harvest almost 33 MMBF of timber on about 2,613 acres and would construct up to 19 miles of road, with around 9.3 miles of National Forest system and 9.2 miles of temporary (non-system) road. All new road construction would be closed to motorized use after timber harvest. Existing log transfer facilities at Shelter Cove and Coon Cove could be used.

The proposed action would not harvest timber or construct roads in inventoried roadless areas. Harvest would include helicopter, ground based, and cable yarding systems, and include even-aged and uneven-aged harvest prescriptions. All proposed activities would meet the standards and guidelines of the Forest Plan.

Possible Alternatives

Scoping comments will be used by the Forest Service to develop a range of alternatives in response to significant issues that are identified. A no-action alternative will be analyzed during the alternative process.

Responsible Official

The responsible official for the decision on this project is Forrest Cole, Forest Supervisor, Tongass National Forest, Federal Building, 648 Mission Street, Ketchikan, Alaska 99901.

Nature of Decision To Be Made

The responsible official will decide: (1) The estimated timber volume to make available from the project, as well as the location, design, and scheduling of timber harvest, road construction and reconstruction, and silvicultural practices used; (2) access management measures; (3) mitigation measures and monitoring requirements; and (4) whether there may be a significant restriction on subsistence uses.

Preliminary Issues

Preliminary concerns identified by the interdisciplinary team include (1) Designing an economical timber sale; (2) designing the timber sale to meet the scenic integrity objectives for visual priority routes; (3) the effects of timber harvest and road construction on wildlife habitat and travel corridors, and (4) designing the timber sale to avoid, minimize, or mitgate effects to rare and sensitive plants.

Permits or Licenses Required

All necessary permits will be obtained prior to project implementation, and may include the following:

(1) State of Alaska, Department of Environmental Conservation (DEC), Alaska Pollutant Discharge Elimination System (APDES):

• General permit for Log Transfer Facilities in Alaska;

• Review Spill Prevention Control and Countermeasure Plan;

• Certification of Compliance with Alaska Water Quality Standards (401 Certification) Chapter 20;

• Storm Water Discharge Permit/National Pollutant Discharge Elimination System review (Section 402 of the Clean Water Act);

• Solid Waste Disposal Permit;

(2) U.S. Army Corps of Engineers:

• Approval of discharge of dredged or fill material into the waters of the United States under Section 404 of the Clean Water Act;

• Approval of the construction of structures or work in navigable waters of the United States under Section 10 of the Rivers and Harbors Act of 1899;

(3) State of Alaska, Division of Natural Resources (DNR):

• Authorization for occupancy and use of tidelands and submerged lands.

Scoping Process

This notice of intent initiates the scoping process, which guides the development of the EIS. The Forest Service will be seeking information, comments, and assistance from Tribal Governments, Federal, State, and local agencies, individuals and organizations interested in, or affected by the proposed activities. In addition to this Notice of Intent, legal notices and display ads will be placed in the Ketchikan Daily News. The Ketchikan Daily News is the official newspaper of record for this project. A scoping document was mailed May 2, 2012 and will be posted on the Tongass National Forest public Web site at http://www.fs.fed.us/r10/tongass/projects/projects. Individuals who want to be placed on the project mailing list should contact the Ketchikan-Misty Fiords Ranger District at the address above.

It is important that reviewers provide their comments at such times and in such manner that they are useful to the agency's preparation of the EIS. Therefore, comments should be provided prior to the close of the comment period and should clearly articulate the reviewer's concerns and contentions.

Comments, including names and addresses of those who comment, will be part of the public record for this proposed action and will be available for public inspection. Comments submitted anonymously will be accepted and considered, however anonymous comments will not provide the respondent with standing to participate in subsequent administrative review or judicial review.

Dated: April 26, 2012.
Forrest Cole,
Forest Supervisor, Tongass National Forest.

[FR Doc. 2012-10989 Filed 5-7-12; 8:45 am]

BILLING CODE 3410-11-P